DEPARTMENT OF VETERANS AFFAIRS

48 CFR Parts 819 and 852

RIN 2900-AR06

VA Acquisition Regulation: Acquisition Planning; Required Sources of Supplies and Services; Market Research; and Small Business Programs; Correction

AGENCY: Department of Veterans Affairs.

ACTION: Correcting amendment.

SUMMARY: The Department of Veterans Affairs (VA) is correcting the VA Acquisition Regulation (VAAR) concerning Small Business Programs and Solicitation Provisions and Contract Clauses. This correction addresses three minor administrative typos involving references to the VAAR in the regulations.

DATES: This correction is effective November 22, 2022.

FOR FURTHER INFORMATION CONTACT: Ms. Glacia Holbert, Senior Procurement Analyst, Procurement Policy and Warrant Management Service, 003A2A, 810 Vermont Avenue NW, Washington, DC 20420, (202) 697-3614. (This is not a toll-free number.)

SUPPLEMENTARY INFORMATION: VA is correcting its regulations that published in the final rule “VA Acquisition Regulation: Acquisition Planning; Required Sources of Supplies and Services; Market Research; and Small Business Programs,” which published October 18, 2022, in the rule document in the Federal Register at 87 FR 62999.

List of Subjects

48 CFR Part 819

Administrative practice and procedure, Government procurement, Reporting and recordkeeping requirements, Small business, Veterans.

48 CFR Part 852

Government procurement, Reporting and recordkeeping requirements.

Accordingly, 48 CFR parts 819 and 852 are corrected by making the following correcting amendments:

PART 819—SMALL BUSINESS PROGRAMS

1. The authority citation for part 819 continues to read as follows:

Authority: 15 U.S.C. 631, et seq.; 15 U.S.C. 637(d)(4)(E); 38 U.S.C. 8127-8128; 40 U.S.C. 121(c); 41 U.S.C. 1121(c)(3); 41 U.S.C. 1303; 41 U.S.C. 1702; and 48 CFR 1.301 through 1.304.

819.7002 [Amended]

2. In section 819.7002, amend the second sentence by removing “(see 817.502)” and adding “(see 817.501)” in its place.

PART 852—SOLICITATION PROVISIONS AND CONTRACT CLAUSES

3. The authority citation for part 852 continues to read as follows:

Authority: 38 U.S.C. 8127-8128 and 8151-8153; 40 U.S.C. 121(c); 41 U.S.C. 1121(c)(3); 41 U.S.C. 1303; 41 U.S.C. 1702; and 48 CFR 1.301 through 1.304.

852.219-73 [Amended]

4. In section 852.219-73, amend paragraph (a)(1)(i) by removing “802.201” and adding “802.101” in its place.

852.219-74 [Amended]

5. In section 852.219-74, amend paragraph (g) by removing “802.10” and adding “802.101” in its place.

Approved: November 15, 2022.
Consuela Benjamin,
Regulations Development Coordinator, Office of Regulation Policy & Management, Office of the General Counsel, Department of Veterans Affairs.

[FR Doc. 2022-25238 Filed 11-21-22; 8:45 am]

BILLING CODE 8320-01-P